DEPARTMENT OF THE INTERIOR

Bureau of Land Management

[LLNVS01000 L58530000 EU0000 241A; MO#]

Notice of Realty Action: Modified Competitive Sale of 61 Parcels of Public Land in Clark County, NV; and Termination of Recreation and Public Purposes Classification

AGENCY: Bureau of Land Management, Interior.

ACTION: Notice of Realty Action.

SUMMARY: The Bureau of Land Management (BLM) proposes to offer 61 parcels of public land totaling 893.35 acres in the Las Vegas Valley (Valley) by modified competitive sale, sealed bid and oral auction, at not less than the appraised Fair Market Values (FMV) pursuant to the Southern Nevada Public Land Management Act of 1998 (SNPLMA), as amended. The sale will be subject to the applicable provisions of the Federal Land Policy and Management Act of 1976 (FLPMA), as amended, and the BLM land sale regulations. The BLM is also terminating Recreation and Public Purposes (R&PP) Classification and Segregation of one parcel of land in Clark County. The BLM has completed a Determination of National Environmental Policy Act Adequacy (DNA) for the sale.

DATES: Submit written comments regarding the sale until August 12, 2019. The modified competitive sale is to occur by sealed-bid and oral public auction on August 29, 2019, at 10:00 a.m., Pacific Time, at City of North Las Vegas, Council Chambers, 2250 Las Vegas Boulevard North, North Las Vegas, Nevada 89030. In advance of the sale, the BLM will publish a sales matrix on its website, https://www.blm.gov/snplma; and, no later than 30 days prior to the sale, the sales matrix will provide the FMV for each sale parcel. The BLM will begin accepting sealed bids on August 19, 2019. Sealed bids must be received by the BLM, Las Vegas Field Office (LVFO) no later than 4:30 p.m. Pacific Time on August 26, 2019.

The BLM will open sealed bids on the day of the sale just prior to the oral bidding.

ADDRESSES: Mail written comments and submit sealed bids to the BLM LVFO, Assistant Field Manager, Division of Lands, 4701 North Torrey Pines Drive, Las Vegas, NV 89130.

FOR FURTHER INFORMATION CONTACT: Jayangi Ayesha Gamage by email: jgamage@blm.gov, or by telephone: 702-515-5189. For general information on previous BLM public land sales go to: https://www.blm.gov/snplma. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: The BLM proposes to offer 61 parcels of public land, of which 50 are located within Clark County jurisdiction, 10 are within the City of Las Vegas jurisdiction, and one is within the City of North Las Vegas jurisdiction. More specifically, of the 61 parcels, 20 are located in the northwest part of the valley near Interstate 215 and State Route 157; five are located in the southwest part of the valley, east of Interstate 215 near Spring Mountain Road and West Flamingo Road; one is located in the southwest part of the valley, west of Interstate 215 and south of West Sunset Road; 24 are located in the southwest part of the valley, near Blue Diamond Road; seven are located in the southwest part of the valley, west of Interstate 15 between West Silverado Ranch Boulevard and West Cactus Avenue; three are located in the southeast part of the valley, east of South Las Vegas Boulevard and south of Interstate 215; and one is located in the northeast part of the valley north of Interstate 15 and south of Interstate 215.

The subject public lands are legally described as:

Mount Diablo Meridian, Nevada

N-96215, 5.00 acres

T. 19 S, R. 59 E,

Sec. 36, E½SW¼NE¼NW¼.

N-96216, 5.00 acres

T. 19 S, R. 60 E,

Sec. 19, lot 27;

N-80697, 10.00 acres

T. 19 S, R. 60 E,

Sec. 30, W½NW¼SE¼SW¼ and W½SW¼SE¼SW¼.

N-96217, 10.00 acres

T. 21 S, R. 60 E,

Sec. 10, SE¼NE¼SW¼;

N-96218, 1.87 acres

T. 21 S, R. 60 E,

Sec. 17, E½SE¼NW¼SE¼NW¼ and SW¼SE¼NW¼SE¼NW¼;

N-96219, 5.00 acres

T. 21 S, R. 60 E,

Sec. 21, E½SW¼NW¼NW¼;

N-96220, 20.00 acres

T. 21 S, R. 60 E,

Sec. 21, W½SE¼NW¼.

N-92830, 2.50 acres

T. 22 S, R. 60 E,

Sec. 14, SE¼SE¼SE¼SW¼;

N-92832, 2.50 acres

T. 22 S, R. 60 E,

Sec. 14, SW¼SW¼SW¼SE¼;

N-96221, 5.00 acres

T. 22 S, R. 60 E,

Sec. 14, W½SE¼SE¼SE¼;

N-96222, 8.75 acres

T. 22 S, R. 60 E,

Sec. 16, SE¼NE¼NE¼SE¼, N½SE¼NE¼SE¼, and N½SE¼SE¼NE¼SE¼;

N-96223, 7.50 acres

T. 22 S, R. 60 E,

Sec. 16, W½NE¼NW¼SE¼ and NW¼SE¼NW¼SE¼;

N-96224, 15.00 acres

T. 22 S, R. 60 E,

Sec. 19, SE¼NW¼NE¼NE¼, W½NW¼NE¼NE¼, E½NE¼NW¼NE¼, and SW¼NE¼NW¼NE¼;

N-96225, 2.50 acres

T. 22 S, R. 60 E,

Sec. 22, NE¼NW¼SW¼NW¼;

N-96226, 2.50 acres

T. 22 S, R. 60 E,

Sec. 23, NW¼NE¼NE¼NE¼;

N-96227, 7.50 acres

T. 22 S, R. 60 E,

Sec. 23, SW¼SE¼SE¼NE¼ and E½SW¼SE¼NE¼;

N-96228, 5.00 acres

T. 22 S, R. 60 E,

Sec. 24, E½SE¼SE¼NW¼;

N-96229, 2.50 acres

T. 22 S, R. 60 E,

Sec. 24, NE¼NE¼SW¼NW¼;

N-96230, 5.00 acres

T. 22 S, R. 60 E,

Sec. 24, N½NW¼NW¼SE¼;

N-92847, 12.50 acres

T. 22 S, R. 60 E,

Sec. 24, NE¼NE¼NE¼SE¼, S½NE¼NE¼SE¼, and N½SE¼NE¼SE¼;

N-79928, 2.50 acres

T. 22 S, R. 60 E,

Sec. 28, NW¼NE¼SE¼NE¼.

N-96231, 15.00 acres

T. 22 S, R. 61 E,

Sec. 24, S½NW¼SW¼NE¼, S½NE¼SE¼NW¼, and S½NW¼SE¼NW¼;

N-96232, 7.50 acres

T. 22 S, R. 61 E,

Sec. 29, NE¼SE¼SE¼SW¼ and S½SE¼SE¼SW¼;

N-96233, 10.00 acres

T. 22 S, R. 61 E,

Sec. 32, NE¼NE¼NW¼;

N-96234, 10.00 acres

T. 22 S, R. 61 E,

Sec. 33, lots 36 and 37.

N-96816, 5.00 acres

T. 19 S, R. 59 E,

Sec. 3, E½SW¼NE¼SE¼;

N-96818, 5.00 acres

T. 19 S, R. 59 E,

Sec. 3, E½SE¼NE¼SE¼;

N-96820, 20.625 acres

T. 19 S, R. 59 E,

Sec. 3, W½NW¼SE¼SE¼, N½SW¼SE¼SE¼, SW¼SW¼SE¼SE¼, N½SE¼SW¼SE¼SE¼, SW¼SE¼SW¼SE¼SE¼, N½SE¼SE¼SE¼, and N½SW¼SE¼SE¼SE¼;

N-84198, 5.00 acres

T. 19 S, R. 59 E,

Sec. 10, W½NW¼NW¼NW¼;

N-84181, 21.875 acres

T. 19 S, R. 59 E,

Sec. 10, N½NE¼NE¼NW¼NE¼, NW¼NE¼NW¼NE¼, N½NW¼NW¼NE¼, N½SW¼NW¼NW¼NE¼, SW¼SW¼NW¼NW¼NE¼, N½SE¼NW¼NW¼NE¼, and NE¼NE¼NW¼;

N-96821, 20.00 acres

T. 19 S, R. 59 E,

Sec. 25, W½NE¼NW¼;

N-96822, 30.00 acres

T. 19 S, R. 59 E,

Sec. 25, W½NW¼NW¼NW¼, W½SW¼NW¼NW¼, and W½SW¼NW¼;

N-96823, 25.00 acres

T. 19 S, R. 59 E,

Sec. 25, SE¼NW¼NW¼, W½NE¼SW¼NW¼, and SE¼SW¼NW¼;

N-96824, 270.00 acres

T. 19 S, R. 59 E,

Sec. 14, E½NE¼SE¼, E½SW¼NE¼SE¼, E½NW¼SE¼SE¼, E½SW¼SE¼SE¼, and E½SE¼SE¼;

Sec. 23, E½NE¼NE¼, E½NW¼NE¼NE¼, E½SW¼NE¼NE¼, NE¼SE¼NE¼, E½NW¼SE¼NE¼, S½SE¼NE¼, and E½SE¼;

Sec. 26, NE¼NE¼, E½NW¼SE¼NE¼, NW¼NW¼SE¼NE¼, NE¼SW¼SE¼NE¼, and E½SE¼NE¼.

N-96825, 10.00 acres

T. 20 S, R. 59 E,

Sec. 1, SW¼NW¼SW¼.

N-96827, 10.00 acres

T. 19 S, R. 60 E,

Sec. 18, W½NW¼NE¼NE¼ and W½SW¼NE¼NE¼;

N-96828, 5.00 acres

T. 19 S, R. 60 E,

Sec. 29, W½SE¼SW¼NW¼;

N-96829, 5.00 acres

T. 19 S, R. 60 E,

Sec. 29, W½SW¼SW¼NW¼;

N-80700, 10.00 acres

T. 19 S, R. 60 E,

Sec. 30, SE¼SE¼NE¼;

N-96830, 10.00 acres

T. 19 S, R. 60 E,

Sec. 31, NE¼SE¼SE¼;

N-96846, 5.39 acres

T. 19 S, R. 60 E,

Sec. 31, lot 14.

N-94552, 5.43 acres

T. 20 S, R. 60 E,

Sec. 7, lot 32.

N-96831, 10.00 acres

T. 21 S, R. 60 E,

Sec. 17, SW¼NE¼NE¼.

N-96832, 5.00 acres

T. 22 S, R. 60 E,

Sec. 5, W½NW¼SW¼NW¼;

N-80719, 5.00 acres

T. 22 S, R. 60 E,

Sec. 13, SE¼NE¼SE¼NE¼ and NE¼SE¼SE¼NE¼;

N-96833, 2.50 acres

T. 22 S, R. 60 E,

Sec. 14, NE¼SW¼SE¼SW¼;

N-96834, 25.00 acres

T. 22 S, R. 60 E,

Sec. 15, SW¼NE¼NW¼, E½SW¼NW¼NW¼, and SE¼NW¼NW¼;

N-96835, 5.00 acres

T. 22 S, R. 60 E,

Sec. 15, W½SW¼SW¼NW¼;

N-96836, 12.50 acres

T. 22 S, R. 60 E,

Sec. 15, W½SW¼NE¼SW¼, N½SE¼NW¼SW¼, and SE¼SE¼NW¼SW¼;

96837, 20.00 acres

T. 22 S, R. 60 E,

Sec. 16, S½NW¼SW¼SE¼, SW¼SW¼SE¼, and W½SE¼SW¼SE¼;

N-96838, 10.00 acres

T. 22 S, R. 60 E,

Sec. 17, W½NE¼SE¼SE¼ and E½NW¼SE¼SE¼;

N-79558, 5.00 acres

T. 22 S, R. 60 E,

Sec. 21, N½SW¼NW¼NW¼;

N-96839, 2.50 acres

T. 22 S, R. 60 E,

Sec. 21, NE¼SE¼NE¼NE¼;

N-94543, 15.00 acres

T. 22 S, R. 60 E,

Sec. 22, W½NE¼SW¼NE¼, S½NW¼SW¼NE¼, N½NE¼SW¼SW¼NE¼, NW¼SW¼SW¼NE¼, and N½NW¼SE¼SW¼NE¼;

N-96840, 20.00 acres

T. 22 S, R. 60 E,

Sec. 24, N½SW¼SE¼;

N-91539, 22.50 acres

T. 22 S, R. 60 E,

Sec. 27, S½NW¼NE¼NW¼, N½SW¼NE¼NW¼, SW¼SW¼NE¼NW¼, S½NE¼NW¼NW¼, SE¼NW¼NW¼NW¼, and SE¼SE¼NW¼NW¼;

N-96841, 15.00 acres

T. 22 S, R. 60 E,

Sec. 29, W½NE¼SW¼SE¼ and NW¼SW¼SE¼;

N-96842, 20.00 acres

T. 22 S, R. 60 E,

Sec. 29, S½SW¼SE¼;

N-96843, 10.00 acres

T. 22 S, R. 60 E,

Sec. 35, E½NE¼NE¼NW¼ and E½SE¼NE¼NW¼.

N-96845, 5.00 acres

T. 22 S, R. 61 E,

Sec. 10, lots 44 and 45.

N-96844, 39.41 acres

T. 19 S, R. 62 E,

Sec. 20, lots 21, 22, 24 thru 26, 28, and 30.

The areas described in aggregate total 893.35 acres.

The BLM will publish this Notice of Realty Action once a week for three consecutive weeks in the Las Vegas Review-Journal newspaper. A sales matrix is available on the BLM website at: https://www.blm.gov/snplma. The sales matrix provides information specific to each sale parcel such as legal description, physical location, encumbrances, acreage, and FMV. The FMV for each parcel will be available in the sales matrix no later than 30 days prior to the sale.

This modified competitive sale is in conformance with the BLM Las Vegas Resource Management Plan Record of Decision LD-1, approved on October 5, 1998. The Las Vegas Valley Disposal Boundary Environmental Impact Statement and Record of Decision issued on December 23, 2004 analyzed the sale parcels. A parcel-specific Determination of National Environmental Policy Act Adequacy (DNA), document number DOI-BLM-NV-S010-2019-0003-DNA, was prepared in connection with this Notice of Realty Action.

Submit comments to the address in the ADDRESSES section. Before including your address, phone number, email address, or other personally identifiable information (PII) in your comment, you should be aware that your entire comment—including any PII—may be made publicly available at any time. While you can ask us in your comment to withhold your PII from public review, we cannot guarantee that we will be able to do so.

The use of the modified competitive sale method is consistent with 43 CFR 2711.3-2(a)(1)(ii). Public lands may be offered for sale by modified competitive bidding procedures when the authorized officer determines it is necessary in order to assure equitable distribution of land among purchasers or to recognize equitable considerations or public policies. Modified competitive bidding includes, but is not limited to, a limitation of persons permitted to bid on a specific parcel of land offered for sale. Factors to be considered in determining when modified competitive bidding procedures shall be used include, but are not limited to, the needs of State and/or local government, adjoining landowners, historical users, and other needs for the parcel. In the past, bogus bidders—who would bid up a parcel during the live auction, be declared the high bidder, and then never remit a deposit or any money for the bid—disrupted SNPLMA competitive land sales by leaving the BLM with no sale and no deposit to forfeit after the agency had expended significant resources to conduct the competitive auction. In consideration of the need to protect the integrity of the land sale process, and the public policy of ensuring that only serious bidders participate in the live auction, persons permitted to participate in the sale will be limited to those persons who submit a $10,000 bid guarantee in advance of the auction.

Sale procedures: Registration for oral bidding will begin on the day of the sale, August 29, 2019, at 9:00 a.m. Pacific Time and will end at 10:00 a.m. Pacific Time at the City of North Las Vegas, Council Chambers, 2250 Las Vegas Boulevard North, North Las Vegas, Nevada 89030; there will be no oral bidding registration prior to the sale date. To participate in the modified competitive sale, all registered bidders must submit a bid guarantee deposit in the amount of $10,000 by certified check, postal money order, bank draft, or cashier's check made payable in U.S. dollars to the “Department of the Interior, Bureau of Land Management.” This $10,000 bid guarantee must be submitted at the time of sale registration for oral bidders or in advance of the sale day with the sealed bid(s). Additionally, the $10,000 bid guarantee is nonrefundable unless the bidder is unsuccessful in the modified competitive sale. The public sale auction will be through sealed and oral bids. Bidders who participate and attend the oral auction on the day of the sale are not required to submit a sealed bid, but may choose to do so.

Sealed bid envelopes must be clearly marked on the lower front left corner with the respective parcel number and name of the sale, for example: “N-XXXXX, 61-parcel SNPLMA Summer 2019 Sale.” If multiple sealed bids are submitted, the first sealed bid of the group must include the $10,000 bid guarantee with the same bidder name and the envelope that contains the bid guarantee must be noted with “bid guarantee.” Sealed bids must include an amount not less than 20 percent of the total bid amount and the $10,000 bid guarantee noted above by certified check, postal money order, bank draft, or cashier's check made payable to the “Department of the Interior, Bureau of Land Management.” The bid guarantee and bid deposit may be combined into one form of deposit; the bidder must specify the amounts of the bid deposit and the bid guarantee. The BLM will not accept personal or company checks. The sealed bid envelope must contain the 20 percent bid deposit, bid guarantee, and a completed and signed “Certificate of Eligibility” form stating the name, mailing address, and telephone number of the entity or person submitting the bid. Certificate of Eligibility and registration forms are available at the BLM LVFO at the address listed in the ADDRESSES section and on the BLM website at: https://www.blm.gov/snplma.

In order to determine the high bids among the qualified bids received, sealed bids will be opened and recorded on the day of the sale. Bids for less than the federally approved FMV will not be qualified. Sealed bids above the FMV will set the starting point for oral bidding on a parcel. Parcels that receive no qualified sealed-bids will begin at the established FMV. Pursuant to 43 CFR 2711.3-1(c), if the BLM receives two or more valid sealed bids of the same amount, oral bidding will start at the sealed bid amount. If a parcel receives no oral bids, the authorized officer will determine the highest qualifying sealed bid in accordance with 43 CFR 2711.3-1(d) and then publicly declare the winning bidder. The highest qualifying bid for any parcel will be declared the high bid. The apparent high bidder must submit a deposit of not less than 20 percent of the successful bid amount by 3:30 p.m. Pacific Time on the day of the sale in the form of a certified check, postal money order, bank draft, or cashier's check made payable in U.S. dollars to the “Department of the Interior, Bureau of Land Management.” Funds must be delivered at the Bureau of Land Management, Las Vegas Field Office, 4701 North Torrey Pines Drive, Las Vegas, Nevada 89130, no later than 3:30 p.m. Pacific Time on the day of the sale to the BLM Collection Officers. The BLM will send the successful bidder(s) a highbidder letter with detailed information for full payment. In accordance with 43 CFR 2711.3-1(d), failure to pay the full purchase price within 180 days of the sale will result in forfeiture of the bid deposit. No exceptions will be made. The BLM cannot accept the remainder of the bid price at any time following the 180th day after the sale.

All bid guarantee deposits submitted with unsuccessful bids will be returned to the bidders or their authorized representative upon presentation of acceptable photo identification at the sale location, the BLM-LVFO, or by certified mail. The apparent high bidder may choose to apply the bid guarantee towards the required deposit, but the bid guarantee will not be refunded to the apparent high bidder if that bidder fails to submit the minimum 20 percent deposit following the close of the sale as required under 43 CFR 2711.3-1(d). If a bidder is the apparent high bidder with respect to multiple parcels and that bidder fails to submit the minimum 20 percent bid deposit resulting in default on any single parcel following the sale, the BLM will not refund that bidder's $10,000 bid guarantee, and the BLM may cancel the sale of all parcels to that bidder. If a high bidder is unable to consummate the transaction for any reason, the second highest bidder may be considered to purchase the parcel. If there are no acceptable bids, a parcel may remain available for sale at a future date in accordance with competitive sale procedures without further legal notice.

Federal law requires that bidders must be: (1) A citizen of the United States, 18 years of age or older; (2) a corporation subject to the laws of any state or of the United States; (3) a state, instrumentality, or political subdivision authorized to hold property; or (4) an entity legally capable of conveying and holding lands or interests therein under the laws of the State of Nevada.

Evidence of United States citizenship is a birth certificate, passport, or naturalization papers. The high bidder must submit proof of citizenship within 25 days from receipt of the high bidder letter. Citizenship documents and Articles of Incorporation (as applicable) must be provided to the BLM-LVFO for each sale.

According to SNPLMA, as amended, Public Law 105-263 section 4(c), lands identified within the Las Vegas Valley Disposal Boundary are withdrawn from location and entry under the mining laws and from operation under the mineral leasing and geothermal leasing laws until such time as the Secretary of the Interior (Secretary) terminates the withdrawal or the lands are patented.

Terms and Conditions: FLPMA Section 209, 43 US.C. 1719(a), states that “all conveyances of title issued by the Secretary . . . shall reserve to the United States all minerals in the lands,” accordingly, all minerals for the sale parcels will be reserved to the United States. The patents, when issued, will contain a mineral reservation to the United States for all minerals.

In response to requests to clarify this mineral reservation as it relates to mineral materials, such as sand and gravel, we refer interested parties to the regulations at 43 CFR 3601.71(b), which provides that the owner of the surface estate of lands with reserved Federal minerals may “use a minimal amount of mineral materials for . . . personal use” within the boundaries of the surface estate without a sales contract or permit. The regulation provides that all other use, absent statutory or other express authority, requires a sales contract or permit. The BLM refers interested parties to the explanation of this regulatory language in the preamble to the final rule published in the Federal Register in 2001, which stated that minimal use “would not include large-scale use of mineral materials, even within the boundaries of the surface estate” (66 FR 58894). Further explanation is contained in BLM Instruction Memorandum No. 2014-085 (April 23, 2014), available on BLM's website at https://www.blm.gov/policy/im-2014-085.

The parcels are subject to limitations prescribed by law and regulation, and certain encumbrances in favor of third parties. Prior to patent issuance, a holder of any Rights-of-Way (ROW) within the sale parcels will have the opportunity to amend their ROW for conversion to a new term, including in perpetuity if applicable, or to an easement. The BLM will notify valid existing ROW holders of record of their ability to convert their compliant ROWs to perpetual ROWs or easements. In accordance with Federal regulations at 43 CFR 2807.15, once notified, each valid holder may apply for the conversion of their current authorization.

The following numbered terms and conditions will appear on the conveyance documents for the sale parcels:

1. All minerals deposits in the lands so patented, and to it, or persons authorized by it, the right to prospect for, mine, and remove such deposits from the same under applicable law and regulations to be established by the Secretary are reserved to the United States, together with all necessary access and exit rights;

2. A right-of-way is reserved for ditches and canals constructed by authority of the United States under the Act of August 30, 1890 (43 U.S.C. 945);

3. The parcels are subject to valid existing rights;

4. The parcels are subject to reservations for roads, public utilities, and flood control purposes, both existing and proposed, in accordance with the local governing entities' transportation plans; and

5. An appropriate indemnification clause protecting the United States from claims arising out of the lessee's/patentee's use, occupancy, or occupations on the leased/patented lands.

Pursuant to the requirements established by Section 120(h) of the Comprehensive Environmental Response, Compensation and Liability Act, 42 U.S.C. 9620(h) (CERCLA), as amended, notice is hereby given that the lands have been examined and no evidence was found to indicate that any hazardous substances have been stored for one year or more, nor that any hazardous substances have been disposed of or released on the subject property.

No warranty of any kind, express or implied, is given by the United States as to the title, whether or to what extent the land may be developed, its physical condition, future uses, or any other circumstance or condition. The conveyance of a parcel will not be on a contingency basis. However, to the extent required by law, the parcel is subject to the requirements of Section 120(h) of the CERCLA.

The BLM Las Vegas Field Office (LVFO) must receive the request for escrow instructions prior to 30 days before the prospective patentee's scheduled closing date. There are no exceptions.

All name changes and supporting documentation must be received at the BLM LVFO by 4:30 p.m. Pacific Time 30 days from the date on the high-bidder letter. There are no exceptions. To submit a name change, the apparent high bidder must submit the name change in writing on the Certificate of Eligibility form to the BLM LVFO.

The remainder of the full bid price for the parcel must be received no later than 4:30 p.m. Pacific Time, within 180 days following the day of the sale. Payment must be submitted in the form of a certified check, postal money order, bank draft, cashier's check, or made available by electronic fund transfer made payable in U.S. dollars to the “Department of the Interior—Bureau of Land Management” to the BLM LVFO. The BLM will not accept personal or company checks.

Arrangements for electronic fund transfer to the BLM for payment of the balance due must be made a minimum of two weeks prior to the payment date. Failure to pay the full bid price within 180 days of the sale date will disqualify the high bidder and cause the entire bid deposit to be forfeited to the BLM. Forfeiture of the bid deposit is in accordance with 43 CFR 2711.3-1(d). There are no exceptions. The BLM can only accept the remainder of the full bid price up to 180 days after the sale date.

The BLM will not sign any documents related to 1031 Exchange transactions. The timing for completion of such an exchange is the bidder's responsibility. The BLM cannot be a party to any 1031 Exchange.

In accordance with 43 CFR 2711.3-1(f), the BLM may accept or reject any or all offers to purchase, or withdraw any parcel of land or interest therein from sale within 30 days, if the BLM authorized officer determines consummation of the sale would be inconsistent with any law, or for other reasons as may be provided by applicable law or regulations. No contractual or other rights against the United States may accrue until the BLM officially accepts the offer to purchase and the full bid price is paid.

Upon publication of this Notice and until completion of this sale, the BLM will no longer accept land use applications affecting the parcel identified for sale. However, land use applications may be considered after the sale if the parcel is not sold. The parcel may be subject to land use applications received prior to publication of this Notice if processing the application would have no adverse effect on the marketability of title, or the FMV of the parcel. Information concerning the sale, encumbrances of record, appraisals, reservations, procedures and conditions, CERCLA, and other environmental documents that may appear in the BLM public files for the sale parcels are available for review during business hours, 8:00 a.m. to 4:30 p.m. Pacific Time, Monday through Friday, at the BLM LVFO, except during Federal holidays.

In order to determine the FMV through appraisal, certain extraordinary assumptions and hypothetical conditions may have been made concerning the attributes and limitations of the lands and potential effects of local regulations and policies on potential future land uses. Through publication of this Notice, the BLM advises that these assumptions may not be endorsed or approved by units of local government.

It is the buyer's responsibility to be aware of all applicable Federal, State, and local government laws, regulations and policies that may affect the subject lands, including any required dedication of lands for public uses. It is also the buyer's responsibility to be aware of existing or prospective uses of nearby properties. When conveyed out of Federal ownership, the lands will be subject to any applicable laws, regulations, and policies of the applicable local government for proposed future uses. It is the responsibility of the purchaser to be aware through due diligence of those laws, regulations, and policies, and to seek any required local approvals for future uses. Buyers should make themselves aware of any Federal or state law or regulation that may impact the future use of the property. Any land lacking access from a public road or highway will be conveyed as such, and acquiring future access will be the responsibility of the buyer.

Termination of R&PP Classification and Segregation: Additionally, the following 10.00 acre lease, granted under the R&PP Act, (43 U.S.C 869 et seq.) has been relinquished: N-7301E. This Notice officially terminates the R&PP Classification and Segregation of the parcel located in Mount Diablo Meridian, Nevada, T. 21 S., R. 60 E., sec. 10, SE¼NE¼SW¼, but does not serve as an opening order because the parcels are within the disposal boundary set by Congress in SNPLMA. Section 4(c) of SNPLMA withdrew these parcels, subject to valid existing rights, from entry and appropriation under the public land laws, location and entry under the mining laws and from operation under the mineral leasing and geothermal leasing laws, until such time as the Secretary terminates the withdrawal or the lands are patented.

Any comments regarding the proposed sale will be reviewed by the BLM Nevada State Director or other authorized official of the Department of the Interior, who may sustain, vacate, or modify this realty action in response to such comments. In the absence of any comments, this realty action will become the final determination of the Department of the Interior.

Authority: 43 CFR 2711.1-2.

Boris Poff,
Acting Assistant Field Manager, Division of Lands.

[FR Doc. 2019-13914 Filed 6-27-19; 8:45 am]

BILLING CODE 4310-HC-P